NUCLEAR REGULATORY COMMISSION

[Docket Nos. 50-309-OM & 72-30-OM; ASLBP No. 03-806-01-OM]

Maine Yankee Atomic Power Company, Maine Yankee Atomic Power Station; Notice of Reconstitution of Atomic Safety and Licensing Board

Pursuant to the authority contained in 10 CFR 2.721, the Atomic Safety and Licensing Board in this proceeding, with the above-identified docket number, is hereby reconstituted by appointing Administrative Judge G. Paul Bollwerk, III, in place of Administrative Judge Thomas D. Murphy.

As reconstituted, the Licensing Board is comprised of the following administrative judges:

Ann M. Young, Chair,

Dr. Richard F. Cole,

G. Paul Bollwerk, III.

All correspondence, documents, and other materials shall be filed with the administrative judges in accordance with 10 CFR 2.701. The address of the new member is: G. Paul Bollwerk, III, Atomic Safety and Licensing Board Panel, U.S. Nuclear Regulatory Commission, Washington, DC 20555.

Issued at Rockville, Maryland, this 9th day of April 2003.
G. Paul Bollwerk, III,
Chief Administrative Judge, Atomic Safety and Licensing Board Panel.

[FR Doc. 03-9198 Filed 4-14-03; 8:45 am]

BILLING CODE 7590-01-P